Proclamation 9083 of February 28, 2014

American Red Cross Month, 2014

By the President of the United States of America

A Proclamation

On the bloodied battlefields of the Civil War, Clara Barton risked her life to aid the wounded, raise spirits, and deliver dearly needed medical supplies. She went on to found the American Red Cross in 1881, which would carry forward her legacy of compassion. Since then, service and relief organizations have demonstrated time and time again that amid the greatest hardship, all of us can unite in shared commitment to helping our fellow human beings. During American Red Cross Month, we honor those who devote themselves to bringing relief where there is suffering, inspiring hope where there is despair, and healing the wounds of disaster and war.

Today, American Red Cross workers, alongside countless humanitarian organizations and caring volunteers, deliver life-saving assistance in every corner of our Nation and all across the globe. They help us donate blood to the ill and injured, fortify towns against rising flood waters, teach us first aid, and rebuild communities in the wake of terrible disasters. Last year, we saw this compassion once again when a tornado tore through Oklahoma, leaving homes destroyed and schools in rubble. Americans came together as one people and one family, determined to stand with those affected every step of the way and to emerge from this tragedy stronger than ever before.

During the darkness of storm, we see what is brightest in America—the drive to shield our neighbors from danger, to roll up our sleeves in times of crisis, to respond as one Nation and leave no one behind. This month, as we honor our incredible relief and service organizations, let us also celebrate that uniquely American spirit that calls us, across all lines of background and belief, to set aside smaller differences in service of a greater purpose.

NOW, THEREFORE, I, BARACK OBAMA, President of the United States of America and Honorary Chairman of the American Red Cross, by virtue of the authority vested in me by the Constitution and the laws of the United States, do hereby proclaim March 2014 as American Red Cross Month. I encourage all Americans to observe this month with appropriate programs, ceremonies, and activities, and by supporting the work of service and relief organizations.

IN WITNESS WHEREOF, I have hereunto set my hand this twenty-eighth day of February, in the year of our Lord two thousand fourteen, and of the Independence of the United States of America the two hundred and thirty-eighth.

[FR Doc. 2014-05074

Filed 3-6-14; 8:45 am]

Billing code 3295-F4